DEPARTMENT OF LABOR

Employment and Training Administration

[TA-W-56,672A]

Golden Northwest Aluminum, Inc., Northwest Aluminum Specialties Company, Currently Known as Northwest Aluminum Specialties, Inc., The Dalles, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment assistance on March 18, 2005, applicable to workers of Golden Northwest Aluminum, The Dalles, Oregon. The notice was published in the Federal Register on May 2, 2005 (70 FR 27711).

At the request of the United Steelworkers, District 12, the Department reviewed the certification for workers of the subject firm. The workers are engaged in the production of aluminum.

New information shows that in June 2006, Golden Northwest Aluminum, Inc., and its division, Northwest Aluminum Specialties Company formed Northwest Aluminum Specialties, Inc. Currently, Northwest Aluminum Specialties Company is now known as Northwest Aluminum Specialties, Inc.

Information also shows that some workers separated from employment at the subject firm had their wages reported under two separate unemployment insurance (UI) tax accounts for Golden Northwest Aluminum, Inc. and Northwest Aluminum Specialties, Inc. Accordingly, the Department is amending the certification to properly reflect this matter.

The intent of the Department's certification is to include all workers of Golden Northwest Aluminum, The Dalles, Oregon, who were adversely affected by increased company imports.

The amended notice applicable to TA-W-56,672 is hereby issued as follows:

“All workers of Golden Northwest Aluminum, Northwest Aluminum Specialties Company, currently known as Northwest Aluminum Specialties, Inc., The Dalles, Oregon, who became totally or partially separated from employment on or after March 12, 2005, through March 18, 2007, are eligible to apply for adjustment assistance under Section 223 of the Trade Act of 1974, and are also eligible to apply for alternative trade adjustment assistance under Section 246 of the Trade Act of 1974.”

Signed at Washington, DC, this 18th day of August 2006.
Elliott S. Kushner,
Certifying Officer, Division of Trade Adjustment Assistance.

[FR Doc. E6-14328 Filed 8-28-06; 8:45 am]

BILLING CODE 4510-30-P